FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 24, 22011.

A. Federal Reserve Bank of Richmond (Adam M. Drimer, Assistant Vice President) 701 East Byrd Street, Richmond, Virginia 23261-4528:

1. Patriot Financial Partners, GP, L.P.; Patriot Financial Partners, L.P.; Patriot Financial Partners Parallel, L.P.; Patriot Financial Partners, GP, LLC; Patriot Financial Managers, L.P.; Patriot Financial Mangers, LLC; Ira M. Lubert; W. Kirk Wycoff; and James J. Lynch, all of Philadelphia, Pennsylvania; to acquire voting shares of ECB Bancorp, Inc., and thereby indirectly acquire voting shares of The East Carolina Bank, both in Engelhard, North Carolina.

B. Federal Reserve Bank of Dallas (E. Ann Worthy, Vice President) 2200 North Pearl Street, Dallas, Texas 75201-2272:

1. James Philip O'Jibway, Bellville, Texas, individually; James Phillip O'Jibway, Kay Holmes O'Jibway, Justin Glenn Brandt, and Jill O'Jibway Brandt, all of Bellville, Texas; Jeffrey Philip O'Jibway, Joseph Austin O'Jibway, and Toby Don O'Jibway, all of Austin, Texas; Jay William O'Jibway, Fort Worth, Texas; William Beckham Holmes Jr., and Glenda Gabbard Holmes both of Boulder, Colorado, (collectively known as the O'Jibway Family Group); to retain control of Austin County Bancshares, Inc., and thereby indirectly retain control of Austin County State Bank, both in Bellville, Texas.

Board of Governors of the Federal Reserve System, August 4, 2011.
Robert deV. Frierson,
Deputy Secretary of the Board.

[FR Doc. 2011-20129 Filed 8-8-11; 8:45 am]

BILLING CODE 6210-01-P